DEPARTMENT OF TRANSPORTATION

Office of the Secretary

Notice of Applications for Certificates of Public Convenience and Necessity and Foreign Air Carrier Permits Filed Under Subpart B (Formerly Subpart Q) During the Week Ending April 2, 2004

The following Applications for Certificates of Public Convenience and Necessity and Foreign Air Carrier Permits were filed under subpart B (formerly subpart Q) of the Department of Transportation's procedural regulations (see 14 CFR 301.201 et seq.). The due date for answers, conforming applications, or motions to modify scope are set forth below for each application. Following the Answer period DOT may process the application by expedited procedures. Such procedures may consist of the adoption of a show-cause order, a tentative order, or in appropriate cases a final order without further proceedings.

Docket Number: OST-2004-17451.

Date Filed: March 29, 2004.

Due Date for Answers, Conforming Applications, or Motion to Modify Scope: April 19, 2004.

Description: Application of Clay Lacy Aviations, Inc., requesting a certificate of public convenience and necessity to engage in foreign charter air transportation of persons, property and mail.

Docket Number: OST-2004-17452.

Date Filed: March 29, 2004.

Due Date for Answers, Conforming Applications, or Motion to Modify Scope: April 19, 2004.

Description: Application of Clay Lacy Aviation, Inc., requesting a certificate of public convenience and necessity authorizing it to engage in interstate charter air transportation of persons, property and mail.

Docket Number: OST-2004-17461.

Date Filed: March 31, 2004.

Due Date for Answers, Conforming Applications, or Motion to Modify Scope: April 21, 2004.

Description: Application of Air Tahoma, Inc., requesting a certificate of public convenience and necessity to engage in interstate charter air transportation.

Maria Gulczewski,
Supervisory Dockets Officer, Docket Operations, Alternate Federal Register Liaison.

[FR Doc. 04-8349 Filed 4-12-04; 8:45 am]

BILLING CODE 4910-62-P